DEPARTMENT OF STATE

[Public Notice: 11511]

60-Day Notice of Proposed Information Collection: Request for Overseas U.S. Citizen Vital Records Services

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 25, 2021.

ADDRESSES: You may submit comments by any of the following methods:

• Web: Persons with access to the internet may comment on this notice by going to regulations.gov. You can search for the document by entering “Docket Number: DOS-2021-0028” in the search field, clicking the “Comment Now” button, and completing the comment form.

• Email: PPTFormsOfficer@state.gov.

• Regular Mail: Send written comments to: PPT Forms Officer, U.S. Department of State, Bureau of Consular Affairs, Passport Services, Office of Program Management and Operational Support, 44132 Mercure Cir, P.O. Box 1199, Sterling, VA 20166-1199.

You must include the DS form number (if applicable), information collection title, and the OMB control number in any correspondence.

SUPPLEMENTARY INFORMATION: • Title of Information Collection: Request for Overseas U.S. Citizen Vital Records Services.

• OMB Control Number: None.

• Type of Request: New Collection.

• Originating Office: Department of State, Bureau of Consular Affairs, Passport Services, Office of Program Management and Operational Support (CA/PPT/S/PMO/CS).

• Form Number: DS-5542.

• Respondents: Individuals.

• Estimated Number of Respondents: 16,846.

• Estimated Number of Responses: 16,846.

• Average Time per Response: 40 minutes.

• Total Estimated Burden Time: 11,231 hours.

• Frequency: On Occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

The Request for Overseas U.S. Citizen Vital Records Services is submitted to the Office of Record Services to request certified or authenticated copies of overseas U.S. citizen vital records such as Consular Reports of Birth/Death Abroad, Certificates of Witness to Marriage, and Panama Canal Zone documents pursuant to authorized requests. Requests for correction, amendment, or replacement of such vital records may be made using this form also.

Methodology

A PDF fillable form will be available on the Department's website, travel.state.gov, where it can be printed for manual signature and submission. The Request for Overseas U.S. Citizen Vital Records Services form may be submitted by mail to request certified or authenticated copies of overseas U.S. citizen vital records maintained by the Office of Record Services. Requests for correction, amendment, or replacement of such vital records may be made using this form also.

Amanda E. Jones,
Acting Deputy Assistant Secretary for Passport Services, Bureau of Consular Affairs, Department of State.

[FR Doc. 2021-18149 Filed 8-23-21; 8:45 am]

BILLING CODE 4710-06-P